NATIONAL FOUNDATION ON THE ARTS AND THE HUMANITIES

National Endowment for the Arts

Arts Advisory Panel Meetings

AGENCY: National Endowment for the Arts

ACTION: Notice of meetings.

SUMMARY: Pursuant to the Federal Advisory Committee Act, as amended, notice is hereby given that 6 meetings of the Arts Advisory Panel to the National Council on the Arts will be held by teleconference.

DATES: See the SUPPLEMENTARY INFORMATION section for individual meeting times and dates. All meetings are Eastern time and ending times are approximate:

ADDRESSES: National Endowment for the Arts, Constitution Center, 400 7th St. SW, Washington, DC 20506.

FOR FURTHER INFORMATION CONTACT: Further information with reference to these meetings can be obtained from Ms. Sherry Hale, Office of Guidelines & Panel Operations, National Endowment for the Arts, Washington, DC 20506; hales@arts.gov, or call 202/682-5696.

SUPPLEMENTARY INFORMATION: The closed portions of meetings are for the purpose of Panel review, discussion, evaluation, and recommendations on financial assistance under the National Foundation on the Arts and the Humanities Act of 1965, as amended, including information given in confidence to the agency. In accordance with the determination of the Chairman of July 5, 2016, these sessions will be closed to the public pursuant to subsection (c)(6) of section 552b of title 5, United States Code.

The upcoming meetings are:

Literature (review of applications): This meeting will be closed.

Date and time: December 17, 2018; 1:00 p.m. to 3:00 p.m.

Media Arts (review of applications): This meeting will be closed.

Date and time: December 17, 2018; 2:30 p.m. to 4:30 p.m.

Literature (review of applications): This meeting will be closed.

Date and time: December 18, 2018; 1:00 p.m. to 3:00 p.m.

Media Arts (review of applications): This meeting will be closed.

Date and time: December 18, 2018; 11:30 a.m. to 1:30 p.m.

Media Arts (review of applications): This meeting will be closed.

Date and time: December 18, 2018; 2:30 p.m. to 4:30 p.m.

Media Arts (review of applications): This meeting will be closed.

Date and time: December 19, 2018; 11:30 a.m. to 1:30 p.m.

Dated: November 16, 2018.
Sherry Hale,
Staff Assistant, National Endowment for the Arts.

[FR Doc. 2018-25376 Filed 11-20-18; 8:45 am]

BILLING CODE 7537-01-P